DEPARTMENT OF COMMERCE

International Trade Administration

[A-475-822]

Stainless Steel Plate in Coils From Italy: Revocation of Antidumping Duty Order

AGENCY: Import Administration, International Trade Administration, Department of Commerce.

SUMMARY: On June 2, 2010, the Department of Commerce (the Department) initiated a second sunset review of the antidumping duty order on stainless steel plate in coils (SSPC) from Italy. See Initiation of Five-Year (“Sunset”) Review, 75 FR 30777 (June 2, 2010) (Initiation). Pursuant to section 751(c) of the Tariff Act of 1930, as amended (the Act), the International Trade Commission (ITC) determined that revocation of this order would not be likely to lead to continuation or recurrence of material injury to an industry in the United States within a reasonably foreseeable time. See Stainless Steel Plate From Belgium, Italy, Korea, South Africa, and Taiwan, 76 FR 50495 (August 15, 2011) (ITC Final). Therefore, pursuant to section 751(d)(2) of the Act and 19 CFR 351.222(i)(1)(iii), the Department is revoking the antidumping duty order on SSPC from Italy.

DATES: Effective Date: July 18, 2010.

FOR FURTHER INFORMATION CONTACT: Hector Rodriguez or Elizabeth Eastwood, AD/CVD Operations, Office 2, Import Administration, International Trade Administration, U.S. Department of Commerce, 14th Street and Constitution Avenue, NW., Washington, DC 20230; telephone: (202) 482-0629 or (202) 482-3874.

SUPPLEMENTARY INFORMATION:

Background

On June 2, 2010, the Department published the notice of initiation of the sunset reviews of the antidumping duty orders on SSPC from Belgium, Italy, Korea, South Africa, and Taiwan pursuant to section 751(c) of the Act. See Initiation.

On July 20, 2011, the ITC determined, pursuant to section 751(c) of the Act, that revocation of this order would not be likely to lead to continuation or recurrence of material injury to an industry in the United States within a reasonably foreseeable time. See ITC Final and Stainless Steel Plate in Coils from Belgium, Italy, Korea, South Africa, and Taiwan (Inv. Nos. 701-TA-379 and 731-TA-788, 790-793 (Second Review), USITC Publication 4248 (Aug. 2011).

Scope of the Order

Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of the order are the following: (1) Plate not in coils, (2) plate that is not annealed or otherwise heat treated and pickled or otherwise descaled, (3) sheet and strip, and (4) flat bars.

The merchandise subject to the order is currently classifiable in the Harmonized Tariff Schedule of the United States (HTSUS) at subheadings: 7219.11.00.30, 7219.11.00.60, 7219.12.00.06, 7219.12.00.21, 7219.12.00.26, 7219.12.00.51, 7219.12.00.56, 7219.12.00.66, 7219.12.00.71, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTSUS subheadings are provided for convenience and customs purposes, the written description of the merchandise subject to the order is dispositive.

Revocation

As a result of the determination by the ITC that revocation of the order is not likely to lead to the continuation or recurrence of material injury to an industry in the United States, the Department, pursuant to section 751(d) of the Act, is revoking the antidumping duty order on SSPC from Italy. Pursuant to section 751(d)(2) of the Act and 19 CFR 351.222(i)(2)(i), the effective date of revocation is July 18, 2010 (i.e., the fifth anniversary of the date of publication in the Federal Register of the notice of continuation of the antidumping duty order). The Department will notify U.S. Customs and Border Protection (CBP) to discontinue suspension of liquidation and collection of cash deposits on entries of SSPC from Italy entered or withdrawn from warehouse on or after July 18, 2010, the effective date of revocation of the antidumping duty order. The Department will further instruct CBP to refund with interest any cash deposits on entries made on or after July 18, 2010.

This revocation and notice are issued in accordance with section 751(d)(2) of the Act and published pursuant to section 777(i)(1) of the Act and 19 CFR 351.222(i)(2).

Dated: August 22, 2011.
Ronald K. Lorentzen,
Deputy Assistant Secretary for Import Administration.

[FR Doc. 2011-22153 Filed 8-30-11; 8:45 am]

BILLING CODE 3510-DS-M